DEPARTMENT OF THE INTERIOR

Bureau of Land Management

[OR-930-08-3130-HN; OR-64688; HAG-08-0037]

Proposed Issuance of Recordable Disclaimer of Interest; Umatilla County, Oregon

AGENCY: Bureau of Land Management, Interior.

ACTION: Proposed Issuance of Recordable Disclaimer of Interest.

SUMMARY: An application has been filed by Kent and Celia Heady for a recordable disclaimer of interest involving 0.65 acre of land in Umatilla County, Oregon, to remove a cloud on the title. The United States did not acquire title to the entire subject parcel because the land had been adversely possessed prior to the United States taking title to it. Therefore, the United States of America hereby gives notice of its intention to disclaim and release all interest in the land to the owner of record.

DATES: Submit comments on or before May 27, 2008. Only written comments will be accepted.

ADDRESSES: Address all written comments to Fred O'Ferrall, Chief, Branch of Lands and Mineral Resources (OR-936), Oregon State Office, Bureau of Land Management, P.O. Box 2965, Portland, Oregon 97208. Comments expressed verbally or in electronic format will not be accepted.

FOR FURTHER INFORMATION CONTACT: Pamela Chappel, Land Law Examiner, at (503) 808-6170.

SUPPLEMENTARY INFORMATION: Pursuant to section 315 of the Federal Land Policy and Management Act of 1976 (FLPMA), 43 U.S.C. 1745, an application has been filed by Kent and Celia Heady for issuance of a recordable disclaimer of interest by the United States affecting the following described land: Parcel A and Parcel B, section 35, Township 6 South, Range 30 East, Willamette Meridian. The subject land (and other land) was acquired by the United States from a private entity in the Northeast Oregon Assembled Land Exchange on December 29, 2000.

In August 2006, the Bureau of Land Management (BLM) conducted a cadastral survey and discovered that the Headys' dwelling encroached on the United States parcel such that the boundaries as stated in the titles varied from the boundaries existing on the ground. A subsequent “Encroachment Report” was completed and submitted to the Office of the Regional Solicitor for an opinion of the effect of an adjacent landowner's occupancy on United States title to acquired lands.

The Office of the Regional Solicitor, Pacific Northwest Office, concludes that the prior owners to the Headys, Donald Roy Shanafelt and Priscilla L. Shanafelt, acquired title by adverse possession against a private entity and then conveyed that interest to the Headys. The Shanafelts vested claim diminished the title that the private entity conveyed to another entity and that entity conveyed to the United States.

Section 315 of the FLPMA authorizes the Secretary of the Interior to issue a recordable disclaimer of interest in land where the disclaimer will help to remove a cloud on the title under certain criteria. One criterion is where a record interest of the United States in the land has terminated by operation of law or is otherwise invalid. The Bureau of Land Management has reviewed the official records and has determined that the United States has no claim to or interest in the above described land and that the issuance of a recordable disclaimer of interest will help to remove a cloud on the title to the land. Accordingly, a recordable disclaimer of interest will be issued shortly after the 90-day comment period.

Public Comments: On or before May 27, 2008, any person may submit written comments regarding the proposed issuance of a recordable disclaimer of interest to the Chief, Branch of Lands and Mineral Resources (OR-936), Oregon State Office, Bureau of Land Management, P.O. Box 2965, Portland, Oregon 97208.

Before including your address, phone number, e-mail address, or other personal identifying information in your comment, you should be aware that your entire comment—including your personal identifying information—may be made publicly available at any time. While you can ask us in your comment to withhold your personal identifying information from public review, we cannot guarantee that we will be able to do so.

(Authority: 43 CFR 1864.2(a))

Christopher B. DeWitt,
Acting Chief, Branch of Lands and Mineral Resources.

[FR Doc. E8-3705 Filed 2-26-08; 8:45 am]

BILLING CODE 4310-33-P